ENVIRONMENTAL PROTECTION AGENCY

[ER-FRL-6629-5]

Environmental Impact Statements; Notice of Availability

Responsible Agency: Office of Federal Activities, General Information (202) 564-7167 or www.epa.gov/compliance/nepa.

Weekly receipt of Environmental Impact Statements

Filed May 13, 2002 Through May 17, 2002

Pursuant to 40 CFR 1506.9.

EIS No. 020191, Draft EIS, AFS, MT, Black Ant Salvage Project, To Salvage 739 Acres of Dead Merchantable Trees from the Lost Fork Fire of 2001, Lewis and Clark National Forest, Meagher Basin County, MT, Comment Period Ends: July 08, 2002, Contact: Scott Hill (406) 566-2292.

EIS No. 020192, Draft EIS, FHW, WY, US 287/26 Improvements Project, From Moran Junction to 12 Miles West of Dubois, the Roadway Traverses thru the Bridger-Teton and Shoshone National Forests and Grand Teton National Park, NPDES and COE Section 404 Permits, Teton and Fremont Counties, WY, Comment Period Ends: August 28, 2002, Contact: Galen W. Hesterberg (307) 772-2012.

EIS No. 020193, Final EIS, TPT, CA, Presidio Trust Implementation Plan (PTIP), An Updated Plan for the Area B of the Presidio of San Francisco, Implementation, San Francisco Bay Area, Marin County, CA, Wait Period Ends: June 24, 2002, Contact: John Pelka (415) 561-5300.

EIS No. 020194, Final EIS, FAA, IL, South Suburban Airport, Proposed Site Approval and Land Acquisition, For Future Air Carrier Airport, Will and Kankakee Counties, IL, Wait Period Ends: June 24, 2002, Contact: Denis Rewerts (847) 294-7195.

EIS No. 020195, Final EIS, HUD, NY, 1105-1135 Warburton Avenue, River Club Apartment Complex Development and Operation, Funding, City of Yonkers, Westchester County, NY, Wait Period Ends: June 24, 2002, Contact: Lee Ellman (914) 377-6557.

EIS No. 020196, Draft EIS, FHW, WI, US 10 Highway Improvements between Marshfield and Appleton, Trestik Road—CTH “K” (Stevens Point Bypass), Funding and COE Section 404 Permit, Portage County, WI, Comment Period Ends: July 08, 2002, Contact: Wesley Shemwell (608) 829-7521.

EIS No. 020197, Draft EIS, FRC, ID, C.J. Strike Hydroelectric Project (FERC NO. 2055), Application for a new License, Located on the Snake River and Bruneau River, Owyhee and Elmore Counties, ID, Comment Period Ends: July 08, 2002, Contact: John Blair (202) 219-2845.

EIS No. 020198, Draft Supplement, NRC, SC, Generic EIS—Catawba Nuclear Station, Unit 1 and 2 (Catawba), Renew the Operating Licenses (OLs) for an Additional 20-Year Period, Supplement 9 to NUREG-1437, York County, SC, Comment Period Ends: August 23, 2002, Contact: James Wilson (301) 415-1108.

EIS No. 020199, Draft EIS, BLM, WY, Pittsburg and Midway Coal Mining Proposal (WYW148816), Exchange Private Owned Land P&M for Federally-Owned Coal, Lincoln, Carbon and Sheridan Counties, WY, Comment Period Ends: July 23, 2002, Contact: Nancy Doelger (307) 261-7627. This document is available on the Internet at: (www.wy.blm.gov).

EIS No. 020200, Draft EIS, DOE, Programmatic EIS—Hanford Site Solid (Radioactive and Hazardous) Waste Program (DOE/EIS-0286D), Proposal to Enhance Waste Management Practices, Low-Level Radioactive; Low-Level Mixed; Transuranic Radioactive; Richland, Benton County, WA Comment Period Ends: August 22, 2002, Contact: Michael S. Collins (509) 376-6536.

EIS No. 020201, Final EIS, MMS, AK, Liberty Development and Production Plan, Beaufort Sea Oil and Gas Development, Implementation, To Transport and Sell Oil to the U.S. and World Markets, Right-of-Way Application, Offshore Beaufort Sea Marine Environment and Onshore North Slope of Alaska Coastal Plan, AK, Wait Period Ends: June 24, 2002, Contact: George Valiulis (703) 787-1662.

EIS No. 020202, Final Supplement, FHW, CA, Devil's Slide Bypass Improvement, CA-1 from Half Moon Bay Airport to Linda Mar Boulevard, Preferred Alternative Estimated Future Project—Generated Noise Study, Funding, Pacifica and San Mateo Counties, CA, Wait Period Ends: June 24, 2002, Contact: Bill Wong (916) 498-5042.

EIS No. 020203, Final EIS, SFW, NV, Stillwater National Wildlife Refuge Complex Comprehensive Conservation Plan and Boundary Revision, Implementation, Churchill and Washoe Counties, NV, Wait Period Ends: June 24, 2002, Contact: Kim Hanson (775) 423-5128.

EIS No. 020204, Draft EIS, NRC, NC Generic EIS—McGuire Nuclear Power Station, Units 1 and 2, Supplement 8 to NUREG-1437, Located on the Shore of Lake Norman, Mecklenburg County, NC, Comment Period Ends: August 02, 2002, Andrew Kugler (301) 415-2828. The above NRC EIS should have appeared in the 05/17/2002 Federal Register. The 75 day Comment Period Request by the Agency will end on August 02, 2002.

Amended Notices

EIS No. 0210305, Draft Supplement, FAA, MN, Flying Cloud Airport, Substantive Changes to Alternatives and New Information, Extension of the Runways 9R/27L and 9L/27R, Long-Term Comprehensive Development, In the City of Eden Prairie, Hennepin County, MN, Comment Period Ends: June 19, 2002, Contact: Glen Orcutt (612) 713-4354. Revision of FR Notice Published on 08/24/2001: CEQ Review Period Ending on 08/17/2001 has been Extended to 06/19/2002.

EIS No. 020181, Draft EIS, NRC, VA, Generic EIS—North Anna Power Station, Units 1 and 2, Supplement 7 to NUREG-1437, License Renewal, VA, Comment Period Ends: August 01, 2002, Contact: Andrew Kugler (301) 415-2828. Revision of FR Notice Published on 05/17/2002: CEQ Comment Date has been corrected from 07/01/2002 to 08/01/2002.

EIS No. 020141, Draft EIS, COE, WV, Spruce Mine Number 1 Surface Mining Construction Project, US Army COE Section 404 and NPDES Permits Issuance, Blair, Logan County, WV, Comment Period Ends: May 28, 2002, Contact: James M. Richmond (304) 529-5210. Revision of FR Notice Published on 04/12/2002: Officially Withdrawn by letter date 04/11/2002.

EIS No. 020184, Final Supplement, GSA, CA, San Diego—United States Courthouse Annex Street Project, Site Selection and Construction, New Information concerning Addition of the Union Street with Hotel San Diego Facade and Lobby Alternative, Central Business District (CBD), City of San Diego, San Diego County, CA, Wait Period Ends: June 17, 2002, Contact: Rosanne Nieto (415) 522-3490. Revision of FR Notice Published on 05/17/2002: Wait Period Ends is Corrected from 06/07/2002 to 06/17/2002.

Dated: May 21, 2002.
Joseph C. Montgomery,
Director, NEPA Compliance Division, Office of Federal Activities.

[FR Doc. 02-13155 Filed 5-23-02; 8:45 am]

BILLING CODE 6560-50-P